DEPARTMENT OF TRANSPORTATION

Federal Railroad Administration

[Docket No. FRA-2015-0062]

Florida East Coast Railway's Positive Train Control Development Plan

AGENCY: Federal Railroad Administration (FRA), Department of Transportation (DOT).

ACTION: Notice of availability and request for comments.

SUMMARY: This document provides the public with notice that on November 12, 2021, Florida East Coast Railway (FECR) submitted to FRA its Positive Train Control Development Plan (PTCDP), Version 1.0, dated November 1, 2021, and that FECR's PTCDP is available for public comment. FECR requests that FRA approve its PTCDP, which describes the version of Wabtec Railway Electronics' Interoperable Electronic Train Management System (I-ETMS) that FECR intends to implement on at least one segment of its territory.

DATES: FRA will consider comments received by December 23, 2021. FRA may consider comments received after that date to the extent practicable, in accordance with the applicable FRA decision deadline under 49 CFR 236.1009(j)(2), and without delaying implementation of a PTC system.

ADDRESSES:

Comments: Comments may be submitted by going to https://www.regulations.gov and following the online instructions for submitting comments.

Instructions: All submissions must include the agency name and the applicable docket number. The relevant PTC docket number is FRA-2015-0062. For convenience, all active PTC dockets are hyperlinked on FRA's website at https://railroads.dot.gov/train-control/ptc/ptc-annual-and-quarterly-reports. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: FECR submitted a PTCDP pursuant to Title 49 Code of Federal Regulations (CFR) 236.1009, Procedural requirements, and 236.1013, PTC Development Plan and Notice of Product Intent content requirements and Type Approval. FECR describes, in its PTCDP, the type of I-ETMS it intends to implement on at least one segment of its territory, and FECR asserts it is designed as vital overlay PTC system as defined in 49 CFR 236.1015(e)(2). The PTCDP describes FECR's planned I-ETMS implementation per 49 CFR 236.1013. During its review of the PTCDP, FRA will consider whether this proposed type of I-ETMS would satisfy the requirements for PTC systems under 49 CFR part 236, subpart I and whether the PTCDP has made a reasonable showing that a system built to the stated requirements would achieve the level of safety mandated for such a system under 49 CFR 236.1015, PTC Safety Plan content requirements and PTC System Certification. If so, in addition to approving FECR's PTCDP, FRA, in its discretion, may issue a Type Approval for this specific type of I-ETMS system. See 49 CFR 236.1013(b)-(d).

FECR's PTCDP is available for review online at https://www.regulations.gov (Docket No. FRA-2015-0062). Interested parties are invited to comment on the PTCDP by submitting written comments or data. During FRA's review of the PTCDP, FRA will consider any comments or data submitted within the timeline specified in this notice and to the extent practicable. See 49 CFR 236.1009(j), 236.1011(e). Under 49 CFR 236.1013(b), FRA maintains the authority to approve, approve with conditions, or deny railroads' PTCDPs at FRA's sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.
John Karl Alexy,
Associate Administrator for Railroad Safety, Chief Safety Officer.

[FR Doc. 2021-25481 Filed 11-22-21; 8:45 am]

BILLING CODE 4910-06-P